SMALL BUSINESS ADMINISTRATION

[Disaster Declaration #13586 and #13587]

Oklahoma Disaster Number OK-00071

AGENCY: U.S. Small Business Administration.

ACTION: Amendment 4.

SUMMARY: This is an amendment of the Presidential declaration of a major disaster for the State of Oklahoma (FEMA—4117-DR), dated 05/20/2013.

Incident: Severe storms, tornadoes and flooding.

Incident Period: 05/18/2013 through 06/02/2013.

Effective Date: 06/26/2013.

Physical Loan Application Deadline Date: 07/19/2013.

EIDL Loan Application Deadline Date: 02/20/2014.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Oklahoma, dated 05/20/2013 is hereby amended to include the following areas as adversely affected by the disaster:

Primary Counties: (Physical Damage and Economic Injury Loans): Okfuskee Okmulgee Le Flore

Contiguous Counties: (Economic Injury Loans Only):

Oklahoma: Haskell Hughes Latimer Mccurtain Mcintosh Muskogee Pushmataha Sequoyah Tulsa Wagoner

Arkansas: Polk Scott Sebastian

All other information in the original declaration remains unchanged.

(Catalog of Federal Domestic Assistance Numbers 59002 and 59008)

James E. Rivera,
Associate Administrator for Disaster Assistance.

[FR Doc. 2013-16221 Filed 7-5-13; 8:45 am]

BILLING CODE 8025-01-P